ENVIRONMENTAL PROTECTION AGENCY

40 CFR Part 52

[MA-063-01-7200b; A-1-FRL-6574-6]

Approval and Promulgation of Air Quality Implementation Plans; Massachusetts; Revised VOC Rules

AGENCY: Environmental Protection Agency (EPA).

ACTION: Proposed rule.

SUMMARY: The EPA is proposing to approve two State Implementation Plan (SIP) revisions submitted by the Commonwealth of Massachusetts. These SIP submittals include revisions to regulations for controlling volatile organic compound (VOC) emissions, including emissions from marine vessel loading and consumer products. In the Final Rules section of this Federal Register, EPA is approving Massachusetts' SIP submittals as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time.

DATES: Written comments must be received on or before May 11, 2000.

ADDRESSES: Comments may be mailed to David Conroy, Unit Manager, Air Quality Planning Unit (mail code CAQ), U.S. Environmental Protection Agency, Region I, One Congress Street, Suite 1100, Boston, MA 02114-2023. Copies of the State submittal and EPA's technical support document are available for public inspection during normal business hours, by appointment at the Office of Ecosystem Protection, U.S. Environmental Protection Agency, Region I, One Congress Street, 11th floor, Boston, MA and the Division of Air Quality Control, Department of Environmental Protection, One Winter Street, 8th Floor, Boston, MA 02108.

FOR FURTHER INFORMATION CONTACT: Anne E. Arnold, (617) 918-1047.

SUPPLEMENTARY INFORMATION: For additional information, see the direct final rule which is located in the Rules section of this Federal Register.

Dated: March 29, 2000.
Mindy S. Lubber,
Regional Administrator, EPA New England.

[FR Doc. 00-8831 Filed 4-10-00; 8:45 am]

BILLING CODE 6560-50-P